ELECTION ASSISTANCE COMMISSION

Notice; Request for Comment; Correction

AGENCY: Election Assistance Commission.

ACTION: Notice; correction.

SUMMARY: The U.S. Election Assistance Commission published a document in the Federal Register on December 16, 2024 regarding the U.S. Election Assistance Commission proposed information collection in the National Mail Voter Registration Form. The notice contained an incorrect subject heading.

FOR FURTHER INFORMATION CONTACT: Raymond Williams at 202-924-0794, or email research@eac.gov; U.S. Election Assistance Commission, 633 3rd Street NW, Suite 200, Washington, DC 20001.

SUPPLEMENTARY INFORMATION:

Correction

In the Federal Register of December 16, 2024 in FR Doc. 2024-29679, at 89 FR 101596 in the third column, correct the SUBJECT HEADING to read:

Agency Information Collection Activities: National Mail Voter Registration Form

Camden Kelliher,
General Counsel, U.S. Election Assistance Commission.

[FR Doc. 2025-01455 Filed 1-21-25; 8:45 am]

BILLING CODE 4810-71-P